NUCLEAR REGULATORY COMMISSION

[Docket No. 72-26; NRC-2022-0220]

Pacific Gas and Electric Company; Diablo Canyon Independent Spent Fuel Storage Installation; License Renewal

AGENCY: Nuclear Regulatory Commission.

ACTION: Notice; issuance.

SUMMARY: The U.S. Nuclear Regulatory Commission (NRC) has issued a renewed license to Pacific Gas and Electric Company (PG&E, the licensee) for Special Nuclear Materials (SNM) License No. SNM-2511 for the receipt, possession, transfer, and storage of spent nuclear fuel from the Diablo Canyon Power Plant and associated radioactive material at the Diablo Canyon Independent Spent Fuel Storage Installation (ISFSI), located in San Luis Obispo County, California. The renewed license authorizes operation of the Diablo Canyon ISFSI in accordance with the provisions of the renewed license and its technical specifications. The renewed license expires on March 22, 2064.

DATES: The license referenced in this document is available as of June 20, 2025.

ADDRESSES: Please refer to Docket ID NRC-2022-0220 when contacting the NRC about the availability of information regarding this action. You may obtain publicly available information related to this document using any of the following methods:

• Federal Rulemaking website: Go to https://www.regulations.gov and search for NRC-2022-0220. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Christopher T. Markley, Office of Nuclear Material Safety and Safeguards, U.S. Nuclear Regulatory Commission, Washington, DC 20555-0001; telephone: 301-415-6293; email: Christopher.Markley@nrc.gov.

SUPPLEMENTARY INFORMATION:

I. Discussion

Based upon the application dated March 9, 2022, as supplemented August 10, 2023, September 21, 2023, April 30, 2024, and March 14, 2025, the NRC has issued a renewed license to the licensee for the Diablo Canyon ISFSI, located in San Luis Obispo County, California. The renewed license SNM-2511 authorizes and requires operation of the Diablo Canyon ISFSI in accordance with the provisions of the renewed license and its technical specifications. The renewed license will expire on March 22, 2064.

The licensee's application for a renewed license complies with the standards and requirements of the Atomic Energy Act of 1954, as amended (the Act), and the NRC's rules and regulations. The NRC has made appropriate findings as required by the Act and the NRC's regulations in Chapter 1 of title 10 of the Code of Federal Regulations (10 CFR) and sets forth those findings in the renewed license. The agency afforded an opportunity for a hearing in the notice of opportunity for a hearing published in the Federal Register on January 10, 2023 (88 FR 1431). An adjudicatory proceeding on the application was then conducted in response to a petition to intervene filed by San Luis Obispo Mothers for Peace (petitioner) regarding the adequacy of the license renewal application. An Atomic Safety and Licensing Board (Board) considered the petition and admitted one contention. The petitioner subsequently withdrew the contention after the licensee supplemented its application with information that the contention had noted was missing. The Board subsequently issued LBP-23-08, terminating the adjudicatory proceeding.

The NRC staff prepared a safety evaluation report for the renewal of the ISFSI license and concluded, based on that evaluation, that the ISFSI will continue to meet the regulations in 10 CFR part 72. The NRC staff also prepared an environmental assessment and finding of no significant impact for the renewal of this license, which was published on November 12, 2024 (89 FR 89056). The NRC staff's environmental assessment included the impacts of continued storage of spent nuclear fuel (as documented in NUREG-2157, “Generic Environmental Impact Statement for Continued Storage of Spent Fuel”). The NRC staff concluded that renewal of this ISFSI license will not have a significant impact on the quality of the human environment.

II. Availability of Documents

The documents identified in the following table are available to interested persons through one or more of the following methods, as indicated.

DOCUMENT description | ADAMS accession No. or Federal Register citation
Letter—PG&E's License Renewal Application, dated March 9, 2022. | ML22068A189
Letter—PG&E's License Renewal Application, Revision 1, dated August 10, 2023 | ML23222A287
Letter—PG&E's Response to Request for Additional Information, Round 1, dated September 21, 2023 | ML23264A859
Letter—PG&E's Response to Request for Additional Information, Round 2, dated April 30, 2024 | ML24121A179
Email PG&E's Supplement to License Renewal Application, dated March 14, 2025 | ML25076A435
Federal Register notice, “Pacific Gas and Electric Company; Diablo Canyon Independent Spent Fuel Storage Installation,” published January 10, 2023 | 88 FR 1431
Memorandum and Order (Dismissing Contention and Terminating Proceeding) (LBP-23-08), dated September 15, 2023 | ML23258A211
Special Nuclear Materials License No. SNM-2511, dated June 20, 2025 | ML24310A119, ML24310A120
SNM-2511 Technical Specifications, dated June 20, 2025. | ML24310A121
NRC Safety Evaluation Report, dated June 20, 2025. | ML24310A125
NRC Environmental Assessment, dated October 2024. | ML24296A038
Federal Register notice, “Pacific Gas and Electric Company; Diablo Canyon Independent Spent Fuel Storage Installation; Environmental Assessment and Finding of No Significant Impact,” published November 12, 2024 | 89 FR 89056
NUREG-2157, “Generic Environmental Impact Statement for Continued Storage of Spent Fuel,” dated September 2014 | ML14196A105, ML14196A107

Dated: June 26, 2025.
For the Nuclear Regulatory Commission.
Yoira Diaz-Sanabria,
Chief, Storage and Transportation Licensing Branch, Division of Fuel Management, Office of Nuclear Material Safety and Safeguards.

[FR Doc. 2025-12237 Filed 6-30-25; 8:45 am]

BILLING CODE 7590-01-P